DEPARTMENT OF JUSTICE

National Institute of Corrections

Advisory Board Meeting

TIME AND DATE: 8 a.m. to 4:30 p.m. on Monday, March 7, 2011.

8 a.m. to 4:30 p.m. on Tuesday, March 8, 2011.

PLACE: National Institute of Corrections, 500 First Street, NW., Washington, DC 20534, 1 (800) 995-6423.

STATUS: Open.

MATTERS TO BE CONSIDERED: Briefing on NIC Reports; Agency Reports; Quarterly Report by Office of Justice Programs.

CONTACT PERSON FOR MORE INFORMATION: Thomas Beauclair, Deputy Director, 202-307-3106, ext. 44254.

Morris L. Thigpen,
Director.

[FR Doc. 2011-3097 Filed 2-11-11; 8:45 am]

BILLING CODE 4410-36-M